DEPARTMENT OF JUSTICE

Antitrust Division

Notice Pursuant to the National Cooperative Research and Production Act of 1993—Silicon Integration Initiative, Inc.

Notice is hereby given that, on July 19, 2023 pursuant to section 6(a) of the National Cooperative Research and Production Act of 1993, 15 U.S.C. 4301 et seq. (“the Act”), Silicon Integration Initiative, Inc. (“Si2”) has filed written notifications simultaneously with the Attorney General and the Federal Trade Commission disclosing changes in its membership. The notifications were filed for the purpose of extending the Act's provisions limiting the recovery of antitrust plaintiffs to actual damages under specified circumstances. Specifically, Rapidus Corporation, Chiyoda-ku, Tokyo, JAPAN; and HW21 Org Limited, San Francisco, CA have been added as parties to this venture. Also, Mythic, Inc., Austin, TX; and Raytheon Technologies Corporation, Andover, MA have withdrawn as parties to this venture. Additionally, TexEDA Design GmbH, Brandenburg, GERMANY has changed its name to Silicon Radar.

No other changes have been made in either the membership or planned activity of the group research project. Membership in this group research project remains open, and Si2 intends to file additional written notifications disclosing all changes in membership.

On December 30, 1988, Si2 filed its original notification pursuant to section 6(a) of the Act. The Department of Justice published a notice in the Federal Register pursuant to section 6(b) of the Act on March 13, 1989 (54 FR 10456).

The last notification was filed with the Department on April 13, 2022. A notice was published in the Federal Register pursuant to section 6(b) of the Act on May 13, 2022 (87 FR 29378).

Suzanne Morris,
Deputy Director Civil Enforcement Operations, Antitrust Division.

[FR Doc. 2023-22233 Filed 10-4-23; 8:45 am]

BILLING CODE P